DEPARTMENT OF ENERGY

Federal Energy Regulatory Commission

Notice of Petition for Declaratory Order

| Docket Nos.
Bluestone Solar, LLC | EL19-85-000
Chicago Holdeo LLC
CMR Solar, LLC
Frontenac Holdeo LLC
Montevideo Solar LLC
Sartell Solar LLC
Underhill Solar, LLC |
Bluestone Solar, LLC | QF19-1315-001
Chicago Holdeo LLC | QF19-1299-001
CMR Solar, LLC | QF19-1302-001
Frontenac Holdeo LLC | QF19-1300-001
Montevideo Solar LLC | QF19-1311-001
Sartell Solar LLC | QF19-1314-001
Underhill Solar, LLC | QF19-1301-001

Take notice that on July 17, 2019, pursuant to Rule 207 of the Rules of Practice and Procedure of the Federal Energy Regulatory Commission (Commission),¹ Bluestone Solar, LLC, Chicago Holdeo LLC, CMR Solar LLC, Frontenac Holdeo LLC, Montevideo Solar LLC, Sartell Solar LLC, and Underhill Solar, LLC (collectively, Petitioners) filed a petition for declaratory order (petition) requesting that the Commission grant partial waiver of the Qualifying Facility (QF) filing requirements set forth in Section 292.203(a)(3) of the Commission's regulations ² for the time periods beginning when they commenced operating their respective generation facilities and ending with their filing of self-certification of QF status on June 24, 2019 and June 26, 2019, all as more fully explained in the petition.

¹ 18 CFR 385.207 (2018).

² 18 CFR 292.203(a)(3) (2018).

Any person desiring to intervene or to protest in this proceeding must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioners.

The Commission encourages electronic submission of protests and interventions in lieu of paper, using the FERC Online links at http://www.ferc.gov. To facilitate electronic service, persons with internet access who will eFile a document and/or be listed as a contact for an intervenor must create and validate an eRegistration account using the eRegistration link. Select the eFiling link to log on and submit the intervention or protests.

Persons unable to file electronically should submit an original and 5 copies of the intervention or protest to the Federal Energy Regulatory Commission, 888 First Street NE, Washington, DC 20426.

The filings in the above proceeding are accessible in the Commission's eLibrary system by clicking on the appropriate link in the above list. They are also available for review in the Commission's Public Reference Room in Washington, DC. There is an eSubscription link on the website that enables subscribers to receive email notification when a document is added to a subscribed docket(s). For assistance with any FERC Online service, please email FERCOnlineSupport@ferc.gov or call (866) 208-3676 (toll free). For TTY, call (202) 502-8659.

Comment Date: 5:00 p.m. Eastern time on August 16, 2019.

Dated: July 18, 2019.
Nathaniel J. Davis, Sr.,
Deputy Secretary.

[FR Doc. 2019-15683 Filed 7-23-19; 8:45 am]

BILLING CODE 6717-01-P